FEDERAL COMMUNICATIONS COMMISSION

[CG Docket No. 20-158; DA 20-581; FRS 16865]

Termination of Dormant Proceedings

AGENCY: Federal Communications Commission.

ACTION: Notice of availability; request for comments.

SUMMARY: In this document, the Consumer and Governmental Affairs Bureau (the Bureau) announces the availability of the FCC Public Notice seeking comment on whether certain docketed Commission proceedings should be terminated as dormant.

DATES: Comments are due on or before August 5, 2020, and reply comments are due on or before August 20, 2020.

FOR FURTHER INFORMATION CONTACT: Zac Champ, Consumer and Governmental Affairs Bureau at: (202) 418-1495 or emailZac.Champ@fcc.gov.

SUPPLEMENTARY INFORMATION: This is a summary of the Commission's document, CG Docket No. 20-158; DA 20-581, released on June 2, 2020. The full text of this document, including instructions on how to file comments; the spreadsheet associated with document DA 20-581 listing the proceedings proposed for termination; and copies of any subsequently filed documents in this matter will be available for public inspection and copying via ECFS at: https://www.fcc.gov/ecfs/. Document DA 20-581 and the spreadsheet associated with document DA 20-581 listing the proceedings proposed for termination can also be downloaded in Word or Portable Document Format (PDF) at: https://www.fcc.gov/document/cgb-seeks-comment-termination-certain-proceedings-dormant-2.

Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020), https://www.fcc.gov/document/fcccloses-headquarters-open-window-and-changes-hand-delivery-policy.

To request materials in accessible formats for people with disabilities (Braille, large print, electronic files, audio format), send an email to fcc504@fcc.gov or call the Consumer and Governmental Affairs Bureau at (202) 418-0530 (voice) or (202) 418-0432 (TTY). Pursuant to 47 CFR 1.415 and 1.419, interested parties may file comments and reply comments on or before the respective dates indicated in the DATES section of this document.

Federal Communications Commission.
Gregory Haledjian,
Legal Advisor,Office of the Bureau Chief, Consumer and Governmental Affairs Bureau.

[FR Doc. 2020-14345 Filed 7-2-20; 8:45 am]

BILLING CODE 6712-01-P